DEPARTMENT OF THE INTERIOR

Minerals Management Service

Outer Continental Shelf, Alaska Region, Chukchi Sea Oil and Gas Lease Sale 193 for Year 2007

AGENCY: Minerals Management Service (MMS), Interior.

ACTION: Notice of Intent (NOI) to prepare an environmental impact statement.

SUMMARY: A Call for Information and Nominations was published in the Federal Register on February 9, 2005. The Call area was identical to the program area chosen by the Secretary for leasing consideration in the 5-Year Program for 2002-2007—approximately 34 million acres located offshore the coast of Alaska at a distance from shore ranging from 8 nautical miles to 200 nautical miles. Water depths range from 32 feet to 230 feet; a small portion of the northeast corner of the Chukchi Sea area drops to approximately 3,000 feet. Scoping meetings will then be held as needed in appropriate locations.

The response to the February 2005 Call for Information for the Chukchi Sea Planning Area indicated a broader industry interest than envisioned in the “special” sale process outlined in the Federal Register notice. Instead of nominating a small “focused” area, industry commenters proposed consideration of a substantial portion of the planning area. MMS has concluded that consideration of such a large area has merit in light of the significant resource potential and the Administration's goal to expedite exploration of domestic energy resources. However, consideration of such a proposal warrants a more extensive National Environmental Policy Act (NEPA) review than contemplated under the “special” sale process that MMS initially considered. Therefore, MMS will initiate a process to prepare a comprehensive “areawide” Chukchi Sea EIS. As a result, however, it may not be possible to complete such an EIS in time to allow a sale during the current program. Nonetheless, MMS will initiate the process at this time to preserve the Secretary's options. Commencement of the consultative process in the near future will allow the Secretary to consider a Chukchi lease sale either at the end of the 2002-2007 Program or early in the schedule for the next 5-Year Program for 2007-2012, but only if such a proposed sale is adopted in the next 5-year program. The decision whether to include such a sale will be made during the process of developing the 5-Year Program for 2007-2012.

Our first action to initiate the NEPA review is to issue this NOI. Scoping meetings will then be held as needed in appropriate locations.

DATES: Comments must be received no later than October 31, 2005 in envelopes labeled “Comments on the Notice of Intent to Prepare an EIS for Proposed Chukchi Sea Lease Sale 193 included in the 5-Year Program 2002-2007.”

FOR FURTHER INFORMATION CONTACT: Please call David Johnston at (907) 334-5273 in MMS's Alaska OCS Region regarding questions on the NOI.

SUPPLEMENTARY INFORMATION:

Notice of Intent To Prepare an Environmental Impact Statement

1. Authority

The NOI is published pursuant to the regulations (40 CFR 1501.7) implementing the provisions of the National Environmental Policy Act of 1969 as amended (42 U.S.C. 4321 et seq. (1988)) (NEPA).

2. Purpose of Notice of Intent

Pursuant to the regulations (40 CFR 1501.7) implementing the procedural provisions of the National Environmental Policy Act of 1969 (42 U.S.C. 4321 et seq.), MMS is announcing its intent to prepare an EIS for the Chukchi Sea Oil and Gas Lease Sale 193, which is identified in the 5-Year Program (July 2002 through June 2007). The EIS analysis will focus on the potential environmental effects of the sale, exploration, development and production in the areas selected to be considered for leasing. This NOI also serves to announce the initiation of the scoping process for this EIS. Throughout the scoping process, Federal, State, Tribal, and local governments and other interested parties aid MMS in determining the significant issues, potential alternatives, mitigating measures and alternatives to be analyzed in the EIS and the possible need for additional information. Alternatives to the proposals that may be considered are to delay the sale; modify the size, area, or terms of the sale; or cancel the sale. These and any additional alternatives developed through the scoping and analytical process will be considered in the sale-specific decision process. Scoping is intended to solicit input on the scope of the EIS—specifically the issues, alternatives, and mitigation measures. Scoping meetings will be held, as needed, in appropriate locations that MMS will announce at a later date.

3. Instructions on Notice of Intent

Federal, state, tribal, and local governments and other interested parties are requested to send their written comments on the scope of the EIS, significant issues that should be addressed, and potential alternatives and mitigating measures that should be considered to the Regional Supervisor, Leasing and Environment, Alaska OCS Region. Comments should be enclosed in an envelope labeled “Comments on the Notice of Intent to Prepare an EIS on Proposed Chukchi Sea Lease Sale 193 included in the 5-Year Program, 2002-2007.” Comments are due no later than October 31, 2005.

If you wish to comment on this decision or provide scoping comments on the EIS, you may submit your comments by any one the following methods:

• You may mail comments to: Alaska OCS Region, Minerals Management Service, 3801 Centerpoint Drive, Suite 500, Anchorage, Alaska, 99503-5823, http://www.mms.gov/alaska.

• You may also comment via e-mail to ChukchiSeaSale193@mms.gov. Please submit Internet comments as an ASCII file avoiding the use of special characters and any form of encryption. Please also include “Attn: Sale 193 EIS”, in the subject line, and your name and return address in your Internet message. If you do not receive a confirmation from the system that we have received your Internet message, contact us directly at (907) 334-5207.

• Finally, you may hand-deliver comments to the address above.

Our practice is to make comments, including names and addresses of respondents, available for public review during regular business hours. Individual respondents may request that we withhold their address from the rulemaking record, which we will honor to the extent allowable by law. There also may be circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

4. Cooperating Agency

The Department of the Interior invites other Federal, state, tribal, and local governments to consider becoming cooperating agencies in the preparation of the EIS. We invite qualified government entities to inquire about cooperating agency status for this lease sale EIS. Per guidelines from the Council of Environmental Quality (CEQ), qualified agencies and governments are those with “jurisdiction by law or special expertise.” Potential cooperating agencies should consider their authority and capacity to assume the responsibilities of a cooperating agency and to remember that your role in the environmental analysis neither enlarges nor diminishes the final decision making authority of any other agency involved in the NEPA process. Upon request, MMS will provide potential cooperating agencies with a written summary of ground rules for cooperating agencies, including time schedules and critical action dates, milestones, responsibilities, scope and detail of cooperating agencies' contributions, and availability of pre-decisional information. MMS anticipates this summary will form the basis for a Memorandum of Understanding between the MMS and each cooperating agency. You should also consider the “Factors for Determining Cooperating Agency Status” in Attachment 1 to CEQ's January 30, 2002, Memorandum for the Heads of Federal Agencies on Cooperating Agencies in Implementing the Procedural Requirements of The National Environmental Policy Act. A copy of this document is available at: (http://ceq.eh.doe.gov/nepa/regs/cooperating/cooperatingagenciesmemorandum.html) and (http://ceq.eh.doe.gov/nepa/regs/cooperating/cooperatingagencymemofactors.html).

The MMS, as the lead agency, will not be providing financial assistance to cooperating agencies. Even if your organization is not a cooperating agency, you will continue to have opportunities to provide information and comments to MMS during the normal public input phases of the NEPA/EIS process. MMS will also consult with Tribal governments on a Government-to-Government basis. If you would like further information about cooperating agencies, please contact Mr. Paul Stang, Regional Supervisor, Leasing and Environment, at the address noted above or by phone at (907) 334-5230.

5. Existing Information

The MMS has acquired a substantial amount of information, including that gained through the use of traditional knowledge, on the issues and concerns related to oil and gas leasing in the Chukchi Sea. Much of this information has been developed as a result of past lease sales and Environmental Impact Statements in the Chukchi Sea. In addition, an extensive environmental, social, and economic studies program has been underway in this area since 1975 in Alaska. The emphasis has been on geologic mapping, environmental characterization of biologically-sensitive habitats, endangered whales and marine mammals, physical oceanography, ocean-circulation modeling, and ecological and socio-cultural effects of oil and gas activities.

Information on the studies program, completed studies, and a program status report for continuing studies in this area may be obtained from the Chief, Environmental Studies Section, Alaska OCS Region, by telephone request at (907) 334-5280, or by written request at the address stated under NOI comments above. A request may also be made via the Alaska Region Web site at http://www.mms.gov/alaska/ref/pubindex/pubsindex.htm.

Dated: August 30, 2005.
Francis Hodsoll,
Acting Director, Minerals Management Service.

[FR Doc. 05-18281 Filed 9-13-05; 8:45 am]

BILLING CODE 4310-MR-P